DEPARTMENT OF LABOR

Employment and Training Administration

Investigations Regarding Certifications of Eligibility To Apply for Worker Adjustment Assistance and Alternative Trade Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than October 12, 2006.

Interested persons are invited to submit written comments regarding the subject matter of the investigations to the Director, Division of Trade Adjustment Assistance, at the address shown below, not later than October 12, 2006.

The petitions filed in this case are available for inspection at the Office of the Director, Division of Trade Adjustment Assistance, Employment and Training Administration, U.S. Department of Labor, Room C-5311, 200 Constitution Avenue, NW., Washington, DC 20210.

Signed at Washington, DC, this 20th day of September 2006.
Linda G. Poole,
Certifying Officer, Division of Trade Adjustment Assistance.

Appendix
[TAA petitions instituted between 9/11/06 and 9/15/06]
TA-W | Subject firm (Petitioners) | Location | Date of institution | Date of petition
60045 | IBM/ITOS Rocklin (Wkrs) | Rocklin, CA | 09/11/06 | 09/08/06
60046 | Skip's Cutting, Inc. (Comp) | Ephrata, PA | 09/11/06 | 09/08/06
60047 | RR Donnelley (Wkrs) | Lancaster, PA | 09/11/06 | 09/07/06
60048 | ITT Industries (Wkrs) | Kenosha, WI | 09/11/06 | 09/08/06
60049 | Siemens AG (Union) | Norwood, OH | 09/11/06 | 09/08/06
60050 | Five Star Food Service (Wkrs) | Hurt, VA | 09/11/06 | 09/08/06
60051 | Cambridge Lee Industry (Comp) | Leesport, PA | 09/11/06 | 08/29/06
60052 | Labrie Equipment (Comp) | Appleton, WI | 09/11/06 | 09/11/06
60053 | Quality Concepts Manufacturing, Inc. (Wkrs) | Colorado Springs, CO | 09/12/06 | 09/11/06
60054 | Schiffer Dental Care Products (Comp) | Agawam, MA | 09/12/06 | 09/11/06
60055 | Swift Textiles (Comp) | Midland, GA | 09/12/06 | 09/11/06
60056 | Short Bark Industries, LLC (State) | Tellico Plains, TN | 09/12/06 | 09/11/06
60057 | City Wear Production, Inc. (Wkrs) | New York, NY | 09/12/06 | 09/09/06
60058 | Akzo Nobel Salt America, Inc. (Wkrs) | Georgetown, SC | 09/12/06 | 08/21/06
60059 | Hoover Precision Products, Inc. (Comp) | Washington, IN | 09/12/06 | 09/11/06
60060 | Robinson Transformer (Comp) | Robinson, IL | 09/12/06 | 09/11/06
60061 | Genesis Engineering and Technologies, Inc. (Comp) | Interlochen, MI | 09/12/06 | 09/11/06
60062 | G and G Hosiery (Comp) | Fort Payne, AL | 09/12/06 | 09/05/06
60063 | Fisher and Company (State) | Troy, MI | 09/12/06 | 09/05/06
60064 | Delphi Corp. (Union) | Columbus, OH | 09/12/06 | 09/11/06
60065 | Suntron Midwest Operations (Comp) | Olathe, KS | 09/12/06 | 09/12/06
60066 | Source Corp. (Wkrs) | Manchester, KY | 09/12/06 | 09/12/06
60067 | Paola Yarns, Inc. (Comp) | Statesville, NC | 09/13/06 | 08/15/06
60068 | Burley Design, Inc. (Comp) | Eugene, OR | 09/13/06 | 09/12/06
60069 | Cooper Standard Automotive (Union) | Auburn, IN | 09/13/06 | 09/08/06
60070 | RAD Electronics, Inc. (Comp) | Hillsboro, OR | 09/13/06 | 09/12/06
60071 | J and S Industries, LLC (Wkrs) | Livonia, MI | 09/13/06 | 09/12/06
60072 | MJJ Brilliant Jewelers, Inc. (Wkrs) | New York City, NY | 09/13/06 | 09/12/06
60073 | Southern Devices (State) | Morganton, NC | 09/13/06 | 09/10/06
60074 | Rebtex Company, Inc. (Comp) | East Greenwich, RI | 09/13/06 | 09/12/06
60075 | Eaton Corporation (Comp) | Spencer, IA | 09/14/06 | 09/13/06
60076 | Medibeg USA, Inc. (Comp) | Mayodan, NC | 09/14/06 | 09/11/06
60077 | Oxford Collections (Wkrs) | Gaffney, SC | 09/14/06 | 08/25/06
60078 | Weyerhaeuser (Union) | Lebanon, OR | 09/14/06 | 09/13/06
60079 | Allied Motion Motor Products (State) | Owosso, MI | 09/14/06 | 09/13/06
60080 | Hewlett Packard (State) | Austin, TX | 09/14/06 | 09/11/06
60081 | Alma Products Company (Comp) | Alma, MI | 09/14/06 | 09/12/06
60082 | Northern Diecast Corp. (State) | Harbor Springs, MI | 09/14/06 | 09/12/06
60083 | QPM Aerospace (State) | Portland, OR | 09/14/06 | 09/13/06
60084 | Hekman Furniture Co. (Comp) | Grand Rapids, MI | 09/14/06 | 09/13/06
60085 | Parker Hannifin (Comp) | Sarasota, FL | 09/14/06 | 09/13/06
60086 | Ford Motor Co. (Wkrs) | Dearborn, MI | 09/14/06 | 09/14/06
60087 | Wachovia Bank (Wkrs) | Philadelphia, PA | 09/15/06 | 09/14/06
60088 | DuPont Automotive Systems (State) | Troy, MI | 09/15/06 | 09/14/06
60089 | Jones Apparel Group USA (Wkrs) | Bristol, PA | 09/15/06 | 09/05/06
60090 | Klaussner Furniture Industries, Inc. (Comp) | Candor, NC | 09/15/06 | 09/14/06
60091 | Bowater Noway (Wkrs) | Benton Harbor, MI | 09/15/06 | 09/14/06
60092 | National Instruments (Comp) | Norton, MA | 09/15/06 | 09/14/06
60093 | Carhartt, Inc. (Comp) | Madisonville, KY | 09/15/06 | 09/14/06
60094 | Goodyear Tire and Rubber Co. (Union) | Union City, TN | 09/15/06 | 09/14/06
60095 | Regal Electronics, Inc. (State) | Pocahontas, AR | 09/15/06 | 09/15/06

[FR Doc. E6-16105 Filed 9-29-06; 8:45 am]

BILLING CODE 4510-30-P